DEPARTMENT OF THE INTERIOR

Bureau of Ocean Energy Management

[MMAA104000]

Request for Comments on the Annual Progress Report on the Outer Continental Shelf (OCS) Oil and Gas Leasing Program 2012-2017

AGENCY: Bureau of Ocean Energy Management (BOEM), Interior.

ACTION: Request for comments.

SUMMARY: BOEM requests comments on the Annual Progress Report (Report) on the OCS Oil and Gas Leasing Program 2012-2017 (Five Year Program). The Annual Progress Report is available for review at: www.boem.gov/Five-Year-Program-Annual-Progress-Report/. Information on the Five Year Program is available online at http://www.boem.gov/Oil-and-Gas-Energy-Program/Leasing/Five-Year-Program/2012-2017/Five-Year-Program.aspx. The Secretary of the Interior (Secretary) published the Five Year Program in June 2012, and the program became final on August 27, 2012, after the required 60-day congressional review period. Section 18(e) of the OCS Lands Act (Act) states that “the Secretary shall review the leasing program approved under this section at least once each year. He [or she] may revise and reapprove such program, at any time, and such revision and reapproval, except in the case of a revision which is not significant, shall be in the same manner as originally developed.” Historically, the annual review has been an internal process in which BOEM reports to the Secretary any information or events that might result in consideration of a revision to the Program. However, in the decision document for the Five Year Program (available by clicking on “Proposed Final Program Decision Document” at the above web address), the Department of the Interior stated its commitment to “publish an annual progress report on the Five Year Program that includes an opportunity for stakeholders and the public to comment on the program's implementation.” Pursuant to this commitment, the Annual Progress Report (Report) provides the public an overview of the activities that have occurred during the previous year. The Report includes the following information:

• Statistics of sales that have occurred in the previous year, including the number and location of lease blocks and the dollars collected on high bids;

• a tracking table of all relevant deferrals and mitigations;

• a summary of completed and ongoing safety and environmental studies;

• regulatory updates;

• a discussion of significant new drilling activities and seismic data collection;

• a summary of any significant incidents; and

• other relevant information.

After the comment period, BOEM will submit the Report, with a summary of comments received in response to this notice, to the Secretary.

There is no specified format for comments. However, BOEM requests that respondents focus on new information that has come to light since final approval of the Five Year Program in August 2012, and information that was not provided during previous comment periods related to the development of the Five Year Program.

DATES: Please submit comments and information to BOEM no later than December 2, 2013.

Public Comment Procedure: BOEM will accept comments submitted by mail or through its Internet submission system. Please submit your comments using only one of these methods, and include full names and addresses. Comments submitted by other means may not be considered. BOEM will not consider anonymous comments. BOEM will make available for inspection in their entirety all comments by organizations and businesses or by individuals identifying themselves as representatives of organizations and businesses.

BOEM's practice is to make comments submitted, including the names and home addresses of respondents, available for public review. An individual may ask that BOEM withhold his or her name, home address, or both from the public record, and BOEM will honor such a request to the extent allowed by law. If you wish BOEM to withhold such information, you must so state prominently at the beginning of your submission.

ADDRESSES: Mail comments to: Kelly Hammerle, Five Year Program Manager, Bureau of Ocean Energy Management (MS-HM 3120), Room 3120, 381 Elden Street, Herndon, Virginia 20170. Please label your comments and the packaging in which they are submitted as “Information in response to the Annual Progress Report on the Five Year Program 2012-2017.” If you submit any privileged or proprietary information to be treated as confidential, please mark the envelope “Contains Confidential Information.”

Internet: Federal eRulemaking Portal: http://www.regulations.gov. Under the tab “More Search Options,” click “Advanced Docket Search,” then select “Bureau of Ocean Energy Management” from the agency drop-down menu, then click the submit button. In the Docket ID column, select BOEM-2013-0046 to submit public comments and to view related materials available for the Five Year Program. Information on using the Federal eRulemaking Portal, including instructions for accessing documents, submitting comments, and viewing the docket after the comment period closes, is available through the site's “User Tips” link.

FOR FURTHER INFORMATION CONTACT: Kelly Hammerle, Five Year Program Manager, at 703-787-1215.

Dated: October 28, 2013.
Tommy P. Beaudreau,
Director, Bureau of Ocean Energy Management.

[FR Doc. 2013-26185 Filed 10-31-13; 8:45 am]

BILLING CODE 4310-MR-P